DEPARTMENT OF THE TREASURY

Internal Revenue Service

Proposed Collection; Comment Request for Notice 2009-58; Correction

AGENCY: Internal Revenue Service (IRS), Treasury.

ACTION: Correction to notice and request for comments.

SUMMARY: This document contains corrections to a notice and request for comments that was published in the Federal Register on Thursday, September 3, 2009 at 74 FR 45672 inviting the general public and other Federal Agencies to take this opportunity to comment on proposed and/or continuing information collections, as required by the Paperwork Reduction Act of 1995, Public Law 104-13 (44 U.S.C. 3506(c)(2)(A)).

FOR FURTHER INFORMATION CONTACT: Requests for additional information or copies of the forms and instructions should be directed to Evelyn J. Mack at (202) 622-7381, or at Internal Revenue Service, room 6129, 1111 Constitution Avenue, NW., Washington, DC 20224, or through the internet, at Evelyn.J.Mack@irs.gov.

SUPPLEMENTARY INFORMATION:

Background

The notice and request for comments that is the subject of this correction is required by the Paperwork Reduction Act of 1995, Public Law 104-13 (44 U.S.C. 3506(c)(2)(A)).

Need for Correction

As published, the notice and request for comments for Proposed Collection; Comment Request for Notice 2009-58 contains errors that may prove to be misleading and are in need of clarification.

Correction of Publication

Accordingly, the publication of the notice and request for comments for Proposed Collection; Comment Request for Notice 2009-58, which was the subject of FR Doc. E9-21257, is corrected as follows:

1. On page 45672, column 1, in the document heading, the language “Proposed Collection; Comment Request for NOT 111495-09” is corrected to read “Proposed Collection; Comment Request for Notice 2009-58”.

2. On page 45672, column 2, under the caption SUMMARY:, first paragraph of the column, first through third lines from the bottom of the paragraph, the language “soliciting comments concerning Notice 2009 XX, Credit for Carbon Dioxide Sequestration under Section 45Q.” is corrected to read “soliciting comments concerning Notice 2009-58, Manufacturers' Certification of Specified Plug-in Electric Vehicles.”.

3. On page 45672, column 2, under the caption SUPPLEMENTARY INFORMATION:, fourth line, the language “Notice Number: NOT 111495-09.” is corrected to read “Notice Number: Notice 2009-58.”.

LaNita Van Dyke,
Chief, Publications and Regulations Branch, Legal Processing Division, Associate Chief Counsel, (Procedure and Administration).

[FR Doc. E9-22697 Filed 9-21-09; 8:45 am]

BILLING CODE 4830-01-P